FEDERAL MARITIME COMMISSION

Notice of Agreements Filed

The Commission hereby gives notice of the filing of the following agreements under the Shipping Act of 1984. Interested parties may submit comments on the agreements to the Secretary by email at Secretary@fmc.gov, or by mail, Federal Maritime Commission, Washington, DC 20573, within twelve days of the date this notice appears in the Federal Register. Copies of agreements are available through the Commission's website (www.fmc.gov) or by contacting the Office of Agreements at (202) 523-5793 or tradeanalysis@fmc.gov.

Agreement No.: 201310.

Agreement Name: PFL/CNCO Slot Charter Agreement.

Parties: Pacific Forum Line (Group) Limited and The China Navigation Co. Ptd. Ltd.

Filing Party: David Monroe; GKG Law.

Synopsis: The Agreement authorizes PFL to charter space to CNCO in the trade between American Samoa on the one hand, and Australia, New Caledonia, Vanuatu, Fiji, Samoa, and Tonga on the other hand.

Proposed Effective Date: 8/5/2019.

Location: http://fmcinet/Fmc.Agreements.Web/Public/AgreementHistory/22415.

Agreement No.: 201311.

Agreement Name: NPL/CNCO Slot Charter Agreement.

Parties: Neptune Pacific Line Inc. and The China Navigation Co. Ptd. Ltd.

Filing Party: David Monroe; GKG Law.

Synopsis: The Agreement authorizes NPL to charter space to CNCO in the trade between American Samoa on the one hand, and Australia, New Caledonia, Vanuatu, Fiji, Samoa, and Tonga on the other hand.

Proposed Effective Date: 8/5/2019.

Location: http://fmcinet/Fmc.Agreements.Web/Public/AgreementHistory/22416.

Dated: June 28, 2019.
JoAnne D. O'Bryant,
Program Analyst.

[FR Doc. 2019-14239 Filed 7-2-19; 8:45 am]

BILLING CODE 6731-AA-P